DEPARTMENT OF THE INTERIOR

National Park Service

[NPS-WASO-NRNHL-0311-6924; 2280-665]

Landmarks Committee of the National Park System Advisory Board Meeting

AGENCY: National Park Service.

ACTION: Notice of meeting.

SUMMARY: Notice is hereby given in accordance with the Federal Advisory Committee Act [5 U.S.C. Appendix (1988)], that a meeting of the Landmarks Committee of the National Park System Advisory Board will be held beginning at 1 p.m. on November 8, 2011, at the following location. The meeting will continue beginning at 9 a.m. on November 9 and 10, 2011.

DATES: November 8, 2011, at 1 p.m.; November 9-10, 2011, at 9 a.m.

Location: The Finn Forum, 2nd Floor, Ray Group International, 900 15th Street, NW., Washington, DC 20005.

FOR FURTHER INFORMATION CONTACT: Patricia Henry, National Historic Landmarks Program, National Park Service; 1849 C Street, NW., (2280), Washington, DC 20240; Telephone (202) 354-2216; E-mail: Patty_Henry@nps.gov.

SUPPLEMENTARY INFORMATION: The purpose of the meeting of the Landmarks Committee of the National Park System Advisory Board is to evaluate nominations of historic properties in order to advise the National Park System Advisory Board of the qualifications of each property being proposed for National Historic Landmark (NHL) designation, and to make recommendations regarding the possible designation of those properties as National Historic Landmarks to the National Park System Advisory Board at a subsequent meeting at a place and time to be determined. The Committee also makes recommendations to the National Park System Advisory Board regarding amendments to existing designations and proposals for withdrawal of designation. The members of the Landmarks Committee are:

Mr. Ronald James, Chair;

Dr. James M. Allan;

Dr. Cary Carson;

Dr. Darlene Clark Hine;

Mr. Luis Hoyos, AIA;

Dr. Barbara J. Mills;

Dr. William J. Murtagh;

Dr. Franklin Odo;

Dr. William D. Seale;

Dr. Michael E. Stevens.

The meeting will be open to the public. Pursuant to 36 CFR part 65, any member of the public may file, for consideration by the Landmarks Committee of the National Park System Advisory Board, written comments concerning the National Historic Landmarks nominations, amendments to existing designations, or proposals for withdrawal of designation.

Comments should be submitted to J. Paul Loether, Chief, National Register of Historic Places and National Historic Landmarks Program, National Park Service; 1849 C Street, NW., (2280), Washington, DC 20240; E-mail: Paul_Loether@nps.gov.

Before including your address, phone number, e-mail address, or other personal identifying information in your comment, you should be aware that your entire comment—including your personal identifying information—may be made publicly available at any time. While you can ask us in your comment to withhold your personal identifying information from public review, we cannot guarantee that we will be able to do so.

The National Park System Advisory Board and its Landmarks Committee may consider the following nominations:

Nominations:

Alabama

• United States Post Office and Courthouse, Montgomery, AL.

Arizona

• Murray Springs Clovis Site, Cochise County, AZ.

• Poston Elementary School, Unit I, La Paz County, AZ.

California

• Nuestra Señora Reina De La Paz, Kern County, CA.

• Port of Nova Albion Historic and Archeological District, Marin County, CA.

Colorado

• Trujillo Homestead, Alamosa County, CO.

Georgia

• U.S. Post Office and Courthouse, Atlanta, GA.

Iowa

• Davis Oriole Earthlodge Site, Mills County, IA.

Indiana

• The Republic Building, Columbus, IN.

Louisiana

• U.S Court Of Appeals—Fifth Circuit, New Orleans, LA.

Massachusetts

• Central Congregational Church, Boston, MA.

Michigan

• S.S. BADGER (Car Ferry), Ludington, MI.

Nevada

• Mckeen Motorcar #22, Carson City, NV.

New Mexico

• Mission San José De Los Jémez And Giusewa Pueblo Site, Sandoval County, NM.

New York

• Stepping Stones (Bill and Lois Wilson House), Katonah, NY.

• University Heights Campus, Nyu (Bronx Community College, Cuny), Bronx, NY.

Ohio

• Central Branch, National Home For Disabled Volunteer Soldiers/Dayton Veterans. Administration Home, Dayton, OH.

Rhode Island

• United Congregational Church, Newport, RI.

Wisconsin

• Village of Greendale, Village of Greendale, WI.

Proposed Amendments to Existing Designations:

Nantucket Historic District, Nantucket County, MA (updated and additional documentation).

Wawona Hotel Historic District, Yosemite National Park, CA (additional documentation, boundary and name change).

Dated: August 22, 2011.
J. Paul Loether,
Chief, National Register of Historic Places and National Historic Landmarks Program; National Park Service, Washington, DC.

[FR Doc. 2011-22904 Filed 9-7-11; 8:45 am]

BILLING CODE 4312-51-P